DEPARTMENT OF ENERGY

Office of Energy Efficiency and Renewable Energy

Agency Information Collection Activities: Proposed Collection; Comment Request

AGENCY: Department of Energy.

ACTION: Notice of submission for OMB reviw, comment request.

SUMMARY: The Department of Energy (DOE) has submitted the information collection identified in this notice to the Office of Management and Budget (OMB) for review under Sections 3507(a) and 3506(c) of the Paperwork Reduction Act of 1995.

This collection would gather information over a three-year period from participants in the Industrial Assessment Center (IAC) Program (specifically clients, alumni and web-site users), concerning details of energy, waste, production and cost savings generated through their participation in IAC assessments, or through their use of IAC-sponsored web-sites. Information will also be collected to determine the levels of satisfaction that participants have with the services of the IAC.

DATES: Written comments must be filed on or before October 23, 2000. If you anticipate that you will be submitting comments but find it difficult to do so within the time allowed by this notice, you should advise the OMB DOE Desk Officer listed below of your intention to do so as soon as possible. The OMB DOE Desk Officer may be telephoned at (202) 395-3084. (Also, please notify the DOE contact listed below.)

ADDRESSES: Address comments to the Department of Energy Desk Officer, Office of Information and Regulatory Affairs, Office of Management and Budget, 726 Jackson Place, NW., Washington, DC 20503. (Comments should also be addressed to Oak Ridge National Laboratory at the address below).

FOR FURTHER INFORMATION CONTACT: Requests for additional information or copies of the forms and instructions should be directed to M. Martin, Oak Ridge National Laboratory, Bethel Valley Rd., MS-6070, Bldg. 3147, Oak Ridge, TN 37831-6070. Ms. Martin may be contacted by telephone at (865) 574-8688, FAX at (865) 574-9338, or e-mail at martinma@ornl.gov.

SUPPLEMENTARY INFORMATION: Collection Title: Program Quality Monitoring of IAC Participants: Clients, Alumni and Web-users

OMB Control Number: None.

Type of Request: New collection.

Frequency of response: One time only.

Respondents: IAC Program clients, alumni and web-users (businesses and individuals).

Estimated number of annual respondents: 570.

Estimated total annual burden hours: 355 hours.

Background

As part of its effort to comply with the Paperwork Reduction Act of 1995 (Pub. L. 104-13, 44 U.S.C. Chapter 35), the Department of Energy sought comments from the general public and other Federal agencies regarding this collection of information through its June 9, 2000 notice in the Federal Register (65 FR 36679). No comments were received during this 60-day review period. The Department now seeks approval by the Office of Management and Budget (OMB) for clearance of its surveys designed for the IAC effort.

Data will be collected from IAC participants concerning energy, waste, productivity and cost savings generated through their participation in IAC assessments or through their use of technical information provided by IAC-sponsored web-sites. Data will be collected from clients, program alumni, and IAC web-users using either electronic, web-based surveys or telephone interviews. Participation is voluntary. The data will provide input for monitoring performance and satisfaction of IAC participants.

Statutory Authority: Section 3507(a) and 3506(c) of the Paperwork Reduction Act of 1995 (Pub. L. No. 104-13, 44 U.S.C. Chapter 35).

Issued in Washington, DC, September 28, 2000.
Susan L. Frey,
Director, Division of Records Management.

[FR Doc. 00-26027 Filed 10-10-00; 8:45 am]

BILLING CODE 6450-01-P